DEPARTMENT OF ENERGY

Federal Energy Regulatory Commission

[Project Nos. 13687-002, 14554-000]

Notice of Competing Preliminary Permit Applications Accepted for Filing and Soliciting Comments, Motions To Intervene, and Competing Applications; American Municipal Power, Inc.; FFP Project 3, LLC

On September 4, 2013, American Municipal Power, Inc. (AMP) and Free Flow Power Project 3, LLC (FFP) filed preliminary permit applications, pursuant to section 4(f) of the Federal Power Act, proposing to study the feasibility of a hydropower project at the U.S. Army Corps of Engineers' (Corps) Pike Island Lock and Dam, located on the Ohio River near the City of Yorkville, Ohio, in Belmont County, Ohio, and Ohio County, West Virginia. The sole purpose of a preliminary permit, if issued, is to grant the permit holder priority to file a license application during the permit term. A preliminary permit does not authorize the permit holder to perform any land-disturbing activities or otherwise enter upon lands or waters owned by others without the owners' express permission.

AMP's proposed Pike Island Hydro Project No. 13687-002 would be located at the west end of the existing Pike Island dam structure and consist of: (1) A 155-foot-wide, 71-foot-tall water intake structure; (2) a 155-foot-wide, 189-foot-long concrete powerhouse containing two turbine-generators each rated at 25 megawatts (MW) for a total installed capacity of 50 MW; (3) a 160-foot-wide, 350-foot-long tailrace channel; (4) a 8.75-mile-long, 138-kilovolt (kV) overhead transmission line conveying the project power to a substation belonging to American Electric Power Corporation and located in Brillant, Ohio; and (5) appurtenant facilities. The project would occupy several acres of federal lands, would operate run-of-river and generate about 256,000 megawatt-hours (MWh) annually.

Applicant Contact: Philip E. Meier, Vice President Hydro Electric Development and Operations, American Municipal Power, Inc., 1111 Schrock Road, Suite 100, Columbus, OH 43229, phone 614-540-0913.

FFP's Pike Island Hydroelectric Project No. 14554-000 would also be located at the west end of the existing Pike Island dam structure and consist of: (1) A 225-foot-wide, 50-foot-long water intake structure; (2) a 160-foot-wide, 140-foot-long concrete powerhouse containing three turbine-generators each rated at 15 MW for a total installed capacity of 45 MW; (3) a 200-foot-wide, 500-foot-long tailrace channel; (4) a 7,800-foot-long, 138-kilovolt (kV) overhead transmission line conveying the project power to a substation belonging to Ohio Power and located in Tiltonsville, Ohio; and (5) appurtenant facilities. The project would occupy several acres of federal lands, would operate run-of-river and generate about 225,000 MWh annually.

Applicant Contact: Ramya Swaminathan, Free Flow Power Corporation, 239 Causeway Street, Suite 300, Boston, MA 02114, phone 978-283-2822, extension 105.

FERC Contact: Sergiu Serban, email sergiu.serban@ferc.gov, phone 202-502-6211.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-13687-002 or P-14554-000.

More information about this project, including a copy of the application, can be viewed or printed on the “eLibrary” link of the Commission's Web site at http://www.ferc.gov/docs-filing/elibrary.asp. Enter the docket number (P-13687-002, or P-14554-000) in the docket number field to access the document. For assistance, contact FERC Online Support.

Dated: October 31, 2013..
Kimberly D. Bose,
Secretary.

[FR Doc. 2013-26653 Filed 11-6-13; 8:45 am]

BILLING CODE 6717-01-P